DEPARTMENT OF THE INTERIOR

Office of the Secretary

Secretarial Commission on Indian Trust Administration and Reform

AGENCY: Office of the Secretary, Interior.

ACTION: Notice of meeting.

SUMMARY: The Office of the Secretary is announcing that the Secretarial Commission on Indian Trust Administration and Reform (the Commission) will hold a public Webinar meeting on August 13, 2012. The Commission has gathered valuable information to begin work on various subcommittees to explore the definitions and foundation of the trust relationship, explore other trust models, review reports and various documents and identify recommendations from previous studies, and consider the nature and scope of necessary audits of the Department's trust administration systems. The Secretarial Commission's charter requires the Commission to provide well-reasoned and factually based recommendations for potential improvements to the existing management and administration of the trust administration system. The Commission is committed to early public engagement and welcomes your participation in these important meetings.

DATES: The Commission's Webinar meeting will begin at 2 p.m. and end at 4 p.m. Eastern Time on August 13, 2012. Attendance is open to the public, but limited space is available. Members of the public who wish to attend must RSVP by August 10, 2012, by registering at https://www1.gotomeeting.com/register/876785297. Instructions for joining the Webinar will be emailed after registration occurs.

FOR FURTHER INFORMATION CONTACT: The Designated Federal Official, Lizzie Marsters, Chief of Staff to the Deputy Secretary, Department of the Interior, 1849 C Street NW., Room 6119, Washington, DC 20240; or email to Lizzie_Marsters@ios.doi.gov.

SUPPLEMENTARY INFORMATION: As part of President Obama's commitment to fulfilling this nation's trust responsibilities to Native Americans, the Secretary of the Interior (Secretary) appointed five members to serve on the Secretarial Commission on Indian Trust Administration and Reform, established under Secretarial Order No. 3292, dated December 8, 2009. The Commission will play a key role in the Department's ongoing efforts to empower Indian nations and strengthen nation-to-nation relationships.

The Commission will complete a comprehensive evaluation of the Department's management and administration of the trust assets within a two-year period and offer recommendations to the Secretary on how to improve in the future. The Commission will:

(1) Conduct a comprehensive evaluation of the Department's management and administration of the trust administration system;

(2) Review the Department's provision of services to trust beneficiaries;

(3) Review input from the public, interested parties, and trust beneficiaries, which should involve conducting a number of regional listening sessions;

(4) Consider the nature and scope of necessary audits of the Department's trust administration system;

(5) Recommend options to the Secretary for improving the Department's management and administration of the trust administration system based on information obtained from the Commission's activities, including whether any legislative or regulatory changes are necessary to permanently implement any suggested improvements; and

(6) Consider the provisions of the American Indian Trust Fund Management Reform Act of 1994 providing for the termination of the Office of the Special Trustee for American Indians, and make recommendations to the Secretary regarding termination.

The following items will be on the agenda:

• Trust Commission Operations:

• Review, discussion, and approval of June 2012 meeting minutes;

• Updates on action items from June 2012 meeting;

• Report on Commission outreach since June;

• Discussion of preliminary, draft Commission recommendations;

• Discussion of Commission Subcommittee progress and products;

• Review of and discussion of September meeting agenda topics and related outreach activities;

• Review action items of resulting from Webinar call; and

• Public comments.

Written comments may be sent to the Designated Federal Official listed in the FOR FURTHER INFORMATION CONTACT section above. To review all related material on the Commission's work, please refer to http://www.doi.gov/cobell/commission/index.cfm. All meetings are open to the public.

Dated: July 19, 2012.
David J. Hayes,
Deputy Secretary.

[FR Doc. 2012-18248 Filed 7-25-12; 8:45 am]

BILLING CODE 4310-W7-P